NATIONAL AERONAUTICS AND SPACE ADMINISTRATION

[Notice: 03-152]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)).

DATES: All comments should be submitted within 60 calendar days from the date of this publication.

ADDRESSES: All comments should be addressed to Mr. William Braun, National Aeronautics and Space Administration, MS 240.0, Goddard Space Flight Center, Greenbelt, MD 20771.

FOR FURTHER INFORMATION CONTACT: Ms. Nancy Kaplan, NASA Reports Officer, (202) 358-1372.

Title: Locator and Information Services Tracking System (LISTS) Form.

OMB Number: 2700-0063.

Type of review: Extension of a currently approved collection.

Need and Uses: Information collected is used primarily to support Goddard Space Flight Center services that are dependent upon accurate locator-type information.

Affected Public: Individuals or households.

Number of Respondents: 8,455.

Responses Per Respondent: 1.

Annual Responses: 8,455.

Hours Per Request: 8 minutes per response.

Annual Burden Hours: 702.

Frequency of Report: Other (as required).

Patricia L. Dunnington,
Chief Information Officer, Office of the Administrator.

[FR Doc. 03-29993 Filed 12-1-03; 8:45 am]

BILLING CODE 7510-01-P